FEDERAL COMMUNICATIONS COMMISSION

47 CFR Part 90

[WT Docket No. 96-86; FCC 01-10]

Public Safety Communications

AGENCY: Federal Communications Commission.

ACTION: Final rule.

SUMMARY: In this document, the Commission amends its rules to establish operational, technical, and spectrum requirements for the use of the interoperability portion of the 700 MHz public safety band. On February 25, 2000, the Public Safety National Coordination Committee (NCC) released a report with recommendations on these matters. Following the NCC's report, the Commission issued a Fourth Notice of Proposed Rule Making in August 2000. These final rules are based on the NCC recommendations, and the comments the Commission received in response to those recommendations.

DATES: These rules become effective March 19, 2001.

FOR FURTHER INFORMATION CONTACT: Michael Connelly, Policy and Rules Branch, Public Safety and Private Wireless Division, Wireless Telecommunications Bureau at (202) 418-0132.

SUPPLEMENTARY INFORMATION 1. The Commission's Fourth Report and Order, WT Docket No. 96-86, FCC 01-10, was adopted January 11, 2001, and released on January 17, 2001. The full text of this Commission's 4th R&O is available for inspection and copying during normal business hours in the FCC Reference Center, Room CY-A257, 445 12th Street, SW., Washington, DC. The complete text may be purchased from the Commission's copy contractor, International Transcription Service, Inc., 1231 20th Street, NW., Washington, DC 20037. The full text may also be downloaded at: http://www.fcc.gov/wtb/releases/fcc0110.doc. Alternative formats are available to persons with disabilities by contacting Martha Contee at (202) 418-0260 or TTY (202) 418-2555.

Summary of the 4th R&O

2. These actions promote and facilitate the achievement of nationwide and regional interoperability in the 700 MHz public safety band. These actions will enable and accommodate the expeditious development and deployment of public safety equipment in this band without compromising our goal of effective and efficient utilization of the spectrum. A summary of the major decisions follows.

3. The Commission concludes that the states should administer the interoperability channels, with regional planning committees (RPCs) assuming this responsibility if the states decline to do so. States have until December 31, 2001 to inform the Commission whether the states or an RPC will administer the interoperability spectrum. If states decide to administer the interoperability spectrum, they will determine the RPC's role in reviewing applications for interoperability spectrum. The Commission will not require the use of memoranda of understanding.

4. The Commission will not require states and RPCs to use a pre-coordination database at this time. The Public Safety National Coordination Committee (NCC) is directed to revisit this matter once the database is developed and operational.

5. The Commission determines that its rules allow sufficient flexibility to allow state and local governments to grant federal users access to the 700 MHz interoperability spectrum.

6. The Commission adopts blanket licensing of mobile and portable units for all public safety entities if such entities are eligible to hold a 700 MHz band license or such entities otherwise are licensed under Part 90 of our Rules.

7. The Commission rejects a mandatory trunking requirement, but permits trunking on eight interoperability channels on a secondary, non-interference basis. Under this plan, the remaining channel sets are limited to conventional interoperability operations. Licensees that use those channels for trunking must maintain continuous monitoring so that the channels can be released immediately when needed for interoperability communications.

8. The Commission affirms the band plan it adopted in the Third Memorandum Opinion and Order in this proceeding.

9. The Commission will not adopt a table of channel assignments for the interoperability channels, believing that such a table would be cumbersome and cause undue administrative burden.

10. The Commission will not codify a new priority scheme for resolving conflicts when demand for interoperability channels exceeds supply of such channels, believing that the states can determine priority use and resolve disputes.

11. The Commission does not adopt a rule requiring that all mobile units be capable of displaying an interoperability channel label, but it directs the NCC to consider the development of an industry standardized scheme for display labeling.

12. The Commission amends it rules to designate two of the 700 MHz interoperability channels as nationwide calling channels. Public safety entities, particularly those from “outside” a given public safety “system,” can use the calling channels to access the public safety communications infrastructure in the area where they are located.

13. The Commission amends its rules to adopt the Project 25 Phase I standard as the digital voice standard for interoperability channels. The Commission retains its present 4.8 kilobytes per second (kbps) per 6.25 kHz standard rather than require one voice channel per 6.25 kHz bandwidth. The Commission will revisit this issue no earlier than 2005. The Commission also determines that any migration path it adopts will allow stations planned or built prior to our final decision on this issue to operate for at least ten years from the commencement of the system's operations. In addition, we will require that such migration path include a standard that is backward compatible with the Project Phase I standard so that the achievement of interoperability will not be compromised while these systems remain in operation.

14. With respect to the General Use channels, the Commission determines that any migration path it establishes to a voice efficiency standard of one voice channel per 6.25 kHz bandwidth will allow 12.5 kHz-based systems constructed and placed in operation prior to December 31, 2005 to continue to purchase and deploy 12.5 kHz equipment for system expansion or maintenance. The Commission also determines that such 12.5 kHz systems will not be required to cease operations and convert to 6.25kHz technology prior to December 31, 2015, at the earliest. In addition, the Commission concludes that in any specific migration plan for the General Use channels, the earliest date the Commission would require new systems to have 6.25 kHz technology would be December 31, 2005.

15. The Commission amends its rules to reserve two interoperability channels for data transmission and set a standard for data transmission. The Commission concludes that the Project 25 suite of standards is the correct data interoperability standard. Finally, end user equipment can be single purpose: units designed for data-only applications are not required to be voice-capable, and voice-only applications need not have data transmission capability.

16. The Commission allows encryption on the interoperability channels, except the two nationwide calling channels. The Commission adopts TIA/EIA IS 102 AAAAA Project 25 DES encryption protocol as the encryption standard.

Final Regulatory Flexibility Analysis:

17. As required by the Regulatory Flexibility Act (RFA), an Initial Regulatory Flexibility Analysis (IRFA) was incorporated into the Fourth Notice of Proposed Rule Making (Fourth Notice) of this proceeding. The Commission sought written public comment on the IRFA. The present Final Regulatory Flexibility Analysis (FRFA) conforms to the RFA.

A. Need for, and Objectives of, the Fourth Report and Order

18. Our objective is to promote the early and efficient use of public safety spectrum in the frequencies at 764-776 MHz and 794-806 MHz (the 700 MHz band). Specifically, this action will: promote spectrum efficiency through allowing secondary trunking on the Interoperability channels; assist in delineating the roles of Regional Planning Committees (RPCs) and establishment of State Interoperability Executive Committees (SIECs); promote efficient administration of the Interoperability channels by state or local entities; designate calling channels; permit encryption on the Interoperability channels; and establish digital voice standards and efficiency standards for the Interoperability channels, and digital data standards and channel reservation for the Interoperability channels.

B. Summary of Significant Issues Raised by Public Comments in Response to the IRFA

19. No comments were submitted in response to the IRFA. Some comments, however, raised issues that may be of particular concern to small entities, including Interoperability standards, migration, and administration. Other issues include equipment display characteristics. The Commission carefully considered all comments in reaching the decision set forth herein, and each decision consider any impact on small entities.

C. Description and Estimate of the Number of Small Entities to Which Rules Will Apply

20. The RFA directs agencies to provide a description of and, where feasible, an estimate of, the number of small entities that may be affected by the proposed rules, if adopted. The RFA generally defines “small entity” as having the same meaning as the terms “small business,” “small organization,” and “small governmental jurisdiction.” In addition, the term “small business” has the same meaning as “small business concern” under the Small Business Act. A small business concern is one which: (1) Is independently owned and operated; (2) is not dominant in its field of operations; and (3) satisfies any additional criteria established by the Small Business Administration (SBA). A small organization is generally “any not-for-profit enterprise which is independently owned and operated and is not dominant in its field. Nationwide, as of 1992, there were approximately 275,801 small organizations. “Small governmental jurisdiction” generally means “governments of cities, counties, towns, townships, villages, school districts, or special districts, with a population of less than 50,000.” As of 1992, there were approximately 85,006 such jurisdictions in the United States. This number includes 38,978 counties, cities, and towns; of these, 37,566, or ninety-six percent, have populations of fewer than 50,000. The Census Bureau estimates that this ratio is approximately accurate for all governmental entities. Thus, of the 85,006 governmental entities, we estimate that 81,600 (ninety-one percent) are small entities.

21. Public Safety Radio Pool Licensees. As a general matter, Public Safety Radio Pool licensees include police, fire, local government, forestry conservation, highway maintenance, and emergency medical services. Spectrum in the 700 MHz band for public safety services is governed by 47 U.S.C. 337. Non-Federal governmental entities as well as private businesses are licensees for these services. All governmental entities with populations of less than 50,000 fall within the definition of a small entity.

22. Radio and Television Equipment Manufacturers. We anticipate that at least six radio equipment manufacturers will be affected by our decisions in this proceeding. According to the SBA's regulations, a radio and television broadcasting and communications equipment manufacturer must have 750 or fewer employees in order to qualify as a small business concern. Census Bureau data indicate that there are 858 U.S. firms that manufacture radio and television broadcasting and communications equipment, and that 778 of these firms have fewer than 750 employees and would therefore be classified as small entities. We do not have information that indicates how many of the six radio equipment manufacturers associated with this proceeding are among these 778 firms. However, Motorola and Ericsson, two of the six manufacturers, are major, nationwide radio equipment manufacturers, and, thus, we conclude that these manufacturers would not qualify as small businesses.

23. Television Stations. This proceeding will affect full service TV station licensees (Channels 60-69), TV translator facilities, and low power TV (LPTV) stations. The SBA defines a TV broadcasting station that has no more than $10.5 million in annual receipts as a small business. TV broadcasting stations consist of establishments primarily engaged in broadcasting visual programs by TV to the public, except cable and other pay TV services. Included in this industry are commercial, religious, educational, and other TV stations. Also included are establishments primarily engaged in TV broadcasting and which produce taped TV program materials. Separate establishments primarily engaged in producing taped TV program materials are classified under another SIC number.

24. There were 1,509 TV stations operating in the Nation in 1992. That number has remained fairly constant as indicated by the approximately 1,551 operating TV broadcasting stations in the Nation as of February 28, 1997. For 1992, the number of TV stations that produced less than $10.0 million in revenue was 1,155 establishments, or approximately 77 percent of the 1,509 establishments. There are currently 95 full service analog TV stations, either operating or with approved construction permits on channels 60-69. In the DTV Proceeding, we adopted a DTV Table that provides only 15 allotments for DTV stations on channels 60-69 in the continental United States. There are seven DTV allotments in channels 60-69 outside the continental United States. Thus, the rules will affect approximately 117 TV stations; approximately 90 of those stations may be considered small businesses. These estimates may overstate the number of small entities since the revenue figures on which they are based do not include or aggregate revenues from non-TV affiliated companies. We recognize that the rules may also impact minority-owned and women-owned stations, some of which may be small entities. In 1995, minorities owned and controlled 37 (3.0 percent) of 1,221 commercial TV stations in the United States. According to the U.S. Bureau of the Census, in 1987 women owned and controlled 27 (1.9 percent) of 1,342 commercial and non-commercial TV stations in the United States.

25. There are currently 4,977 TV translator stations and 1,952 LPTV stations. Approximately 1,309 low power TV and TV translator stations are on channels 60-69, which could be affected by policies in this proceeding. The Commission does not collect financial information of any broadcast facility and the Department of Commerce does not collect financial information on these broadcast facilities. We will assume for present purposes, however, that most of these broadcast facilities, including LPTV stations, could be classified as small businesses. As indicated earlier, approximately 77 percent of TV stations are designated under this analysis as potentially small businesses. Given this, LPTV and TV translator stations would not likely have revenues that exceed the SBA maximum to be designated as small businesses.

D. Description of Projected Reporting, Recordkeeping, and Other Compliance Requirements

26. The Fourth Report and Order adopts rules that will entail reporting, recordkeeping, and/or third-party consultation, including the requirement that a state notify the Commission regarding the state's intentions regarding administration of the Interoperability channels. The Commission believes, however, that these requirements are the minimum needed. For example, the Fourth Report and Order requires that, while public safety entities are not required to enter into a formal Memoranda of Understanding (MOUs) with a state regarding use of Interoperability channels, applicants must secure approval from the state. To minimize any Federally-imposed paperwork burden, we have left the procedure for such an agreement up to the state. Because we are requiring monitoring of the Interoperability channels, there is the possibility that additional resources may be required. This type of monitoring may be routine for some, while others may require additional resources. In any event, we believe the impact will not be substantial.

E. Steps Taken To Minimize Significant Economic Impact on Small Entities, and Significant Alternatives Considered

27. The RFA requires an agency to describe any significant alternatives that it has considered in reaching its proposed approach, which may include the following four alternatives (among others): (1) the establishment of differing compliance or reporting requirements or timetables that take into account the resources available to small entities; (2) the clarification, consolidation, or simplification of compliance or reporting requirements under the rule for small entities; (3) the use of performance, rather than design, standards; and (4) an exemption from coverage of the rule, or any part thereof, for small entities. 5 U.S.C. 603.

28. The NCC, comprised of representatives from government, the public safety community, and the communications equipment manufacturing industry, was chartered by the Commission as a Federal Advisory Committee, effective February 25, 1999. The NCC made recommendations concerning various issues addressed in the Fourth Notice. We note that in several instances, to benefit all entities, including small entities, we did not propose a particular recommendation.

29. In formulating the rules in the Fourth Report and Order, we reduced economic burdens wherever possible. The regulatory burdens that we adopted are necessary to ensure that the public receives the public safety benefits of innovative new services in a prompt and efficient manner. For example, we adopted technical and operational rules that will promote competition in the equipment market. We believe that the rules must be as competitively and technologically neutral as possible, in order to allow for competing equipment designs and to avoid hindering future innovative technological developments. We note that tighter technical specifications generally allow more intense spectrum use, but may result in higher equipment costs. Conversely, although wider tolerances may allow manufacturers to use less costly component parts in transmitting equipment, they also may result in less efficient spectrum use. With these considerations in mind, we believe that the technical regulations we adopt herein provide a reasonable balance of these concerns.

30. Under the regional planning process, frequency coordination is competitive. Frequency coordination is the process by which a private organization recommends to the Commission the most appropriate frequencies for private land mobile radio service applicants. Frequency coordinators provide a valuable service to the Commission by eliminating common application errors, thereby improving the quality of the applications and resolving potential interference problems at the source. We continue to believe that the encouragement of competition among coordinators promotes cost-based pricing of coordination services and provides incentives for enhancing service quality. Therefore, we will continue to allow any of the certified public safety coordinators to provide coordination in the 700 MHz band.

31. Recognizing the budgetary constraints that public safety entities face as a matter of course, we have adopted rules that encourage broad-based efforts, such as projects on the state and regional level, to coordinate and consolidate operations that are critical to meeting the needs of public safety with cost effective, spectrally-efficient radio systems. For example, we have adopted permissive trunking on certain public safety channels in the 700 MHz band. Trunked systems provide service to many governmental entities in a specific geographic area and offer a higher degree of efficiency than some smaller, non-trunked systems. A difficulty in establishing these types of shared systems is that they require individual agencies to surrender some autonomy in return for the efficiencies and better coverage of a larger system. In addition, the funding required to develop the infrastructure necessary to support some of the newer technologies is often too great to permit small public safety agencies to participate in new, sophisticated, spectrum efficient, wireless radio systems. These same agencies, however, might be able to participate in a county-wide or state-wide system. For these, and other reasons, we encourage the use of shared systems in the public safety community.

Report to Congress: The Commission will send a copy of the Fourth Report and Order, including this FRFA, in a report to be sent to Congress pursuant to the SBREFA, see 5 U.S.C. 801(a)(1)(A). In addition, the commission will send a copy of the Fourth Report and Order, including this FRFA, to the Chief Counsel for Advocacy of the Small Business Administration. In addition, the Fourth Report and Order and FRFA (or summaries thereof) will be published in the Federal Register. See 5 U.S.C. 604(b).

Ordering Clause

Authority for the issuance of this Fourth Report and Order and Fifth Notice of Proposed Rule Making is contained in Sections 4(i), 4(j), 7(a), 302, 303(b), 303(f), 303(g), 303(r), 307(e), 332(a), and 332(c) of the Communications Act of 1934, as amended, 47 U.S.C. 154(i), 154(j), 157(a), 302, 303(b), 303(f), 303(g), 303(r), 307(e), 332(a), 332(c).

Part 90 of the Commission's Rules, 47 CFR Part 90 is amended as specified in the rule changes.

This Fourth Report and Order will be effective March 19, 2001.

The Commission's Consumer Information Bureau, Reference Information Center, shall send a copy of this Fourth Report and Order and Fifth Notice of Proposed Rule Making, including the Final and Initial Regulatory Flexibility Analyses, to the Chief Counsel for Advocacy of the Small Business Administration.

List of Subjects in 47 CFR Part 90

Communications equipment, Radio.

Federal Communications Commission.
Magalie Roman Salas,
Secretary.

Final Rules

For the reasons discussed, 47 CFR part 90 is amended as follows:

PART 90—PRIVATE LAND MOBILE RADIO SERVICES

1. The authority citation for part 90 continues to read as follows:

Authority: Sections 4(i), 11, 303(g), 303(r), and 332(c)(7) of the Communications Act of 1934, as amended, 47 U.S.C. 154(i), 161, 303(g), 303(r), 332(c)(7).

2. Section 90.179 is amended by adding paragraph (j) to read as follows:

§ 90.179 Shared use of radio stations.

* * * * *

(j) On the Interoperability Channels in the 700 MHz Public Safety Band (See 90.531(b)(1)), hand-held and vehicular units operated by any licensee holding a license in the 700 MHz Public Safety Band or by any licensee for any public safety frequency pursuant to part 90 of the Commission's rules may communicate with or through land stations without further authorization and without a sharing agreement.

3. Section 90.421 is amended by adding paragraph (a)(3) to read as follows:

§ 90.421 Operation of mobile units in vehicles not under the control of the licensee.

* * * * *

(a) * * *

(3) On the Interoperability Channels in the 700 MHz Public Safety Band (See § 90.531(b)(1)), hand-held and vehicular transmitters may be operated by any licensee holding a license in the 700 MHz Public Safety Band or by any licensee holding a license for any other public safety frequency pursuant to part 90 of the Commission's rules. Therefore, individual licenses are not required for hand-held and vehicular transmitters in the 700 MHz Band.

4. Section 90.525 is added to read as follows:

§ 90.525 Administration of Interoperability channels

(a) States are responsible for administration of the Interoperability channels in the 764-776 MHz and 794-806 MHz frequency bands. Base and control stations must be licensed individually. A public safety entity meeting the requirements of § 90.523 may operate mobile or portable units on the Interoperability channels in the 764-776 MHz and 794-806 MHz frequency bands without a specific authorization from the Commission provided it holds a part 90 license. All persons operating mobile or portable units under this authority are responsible for compliance with part 90 of these rules and other applicable federal laws.

(b) License applications for Interoperability channels in the 764-776 MHz and 794-806 MHz frequency bands must be approved by a state-level agency or organization responsible for administering state emergency communications. States may hold the licenses for Interoperability channels or approve other qualified entities to hold such licenses. States may delegate the approval process for Interoperability channels to another entity, such as regional planning committees.

5. Section 90.531 is amended by adding paragraphs (b)(1)(i) through (b)(1)(iii) and (b)(7), and by revising paragraphs (b)(2) and (d) to read as follows:

§ 90.531 Band plan.

* * * * *

(b) * * *

(1) * * *

(i) Narrowband data Interoperability channels. The following channel pairs are reserved nationwide for the express purpose of data transmission only: 279/1239, 280/1240, 921/1881, and 922/1882.

(ii) Narrowband calling Interoperability channels. The following channel pairs are dedicated nationwide for the express purpose of Interoperability calling only: 39/999, 40/1000, 681/1641, and 682/1642. They may not be used primarily for routine, day-to-day communications. Encryption is prohibited on the designated calling channels.

(iii) Narrowband trunking Interoperability channels. The following interoperability channel pairs may be combined with the appropriate adjacent secondary trunking channel pairs and used in the trunked mode on a secondary basis to conventional interoperability operations: 23/983, 24/984, 63/1023, 64/1024, 103/1063, 104/1064, 143/1103, 144/1104, 183/1143, 184/1144, 223/1183, 224/1184, 263/1223, 264/1124, 303/1263 and 304/1264. For every ten general use channels trunked at a station, entities may obtain a license to operate in the trunked mode on two of the above contiguous Interoperability channel pairs. The maximum number of Interoperability channel pairs that can be trunked at any one location is eight.

(2) Narrowband reserve channels. The following narrowband channels are undesignated and reserved: 37, 38, 77, 78, 117, 118, 157, 158, 197, 198, 221, 222, 237, 238, 277, 278, 317, 318, 643, 644, 659, 660, 683, 684, 699, 700, 723, 724, 739, 740, 763, 764, 779, 780, 803, 804, 819, 820, 843, 844, 859, 860, 883, 884, 899, 900, 923, 924, 939, 940, 997, 998, 1037, 1038, 1077, 1078, 1117, 1118, 1157, 1158, 1181, 1182, 1197, 1198, 1237, 1238, 1277, 1278, 1603, 1604, 1619, 1620, 1643, 1644, 1659, 1660, 1683, 1684, 1699, 1700, 1723, 1724, 1739, 1740, 1763, 1764, 1779, 1780, 1803, 1804, 1819,1820, 1843, 1844, 1859, 1860, 1883, 1884, 1899, 1900.

* * * * *

(7) Secondary trunking channels. The following channels pairs are reserved for secondary trunking operations: 21/981, 22/982, 61/1021, 62/1022, 101/1061, 102/1062, 141/1101, 142/1102, 181/1141, 182/1142, 221/1181, 222/1182, 261/1221, 262/1222, 301/1261 and 302/1262. They may be used only in combination with the appropriate adjacent Interoperability channel pairs specified in (b)(1)(iii) of this section in trunked systems.

* * * * *

(d) Combining channels. Except as noted in this section, at the discretion of the appropriate regional planning committee, contiguous channels may be used in combination in order to accommodate requirements for larger bandwidth emissions, in accordance with this paragraph. Interoperability channels may not be combined with channels in another group except for channels for secondary trunking channels.

6. Section 90.531(b)(2) is amended by removing the following channels: 21, 22, 37, 38, 61, 62, 77, 78, 101, 102, 141, 142, 181, 182, 221, 222, 261, 262, 277, 278, 301, 302, 317, 318, 981, 982,997, 998,1021, 1022, 1037, 1038, 1061, 1062, 1101, 1102,1141, 1142, 1181, 1182, 1221, 1222, 1237, 1238, 1261, 1262, 1277, and 1278.

7. Section 90.537 is revised to read as follows:

§ 90.537 Trunking requirement.

(a) General use channels. All systems using six or more narrowband channels in the 764-776 MHz and 794-806 MHz frequency bands must be trunked systems, except for those described in paragraph (b) of this section.

(b) Interoperability channels. Trunking is permitted only on Interoperability channels specified in § 90.531(b)(1)(iii). Trunked use must be strictly on a secondary, non-interference basis to conventional operations. The licensee must monitor and immediately release these channels when they are needed for interoperability purposes.

8. Section 90.547 is revised to read as follows:

§ 90.547 Interoperability channel capability requirement.

Except as noted below, mobile and portable transmitters operating in the 764-776 MHz and 794-806 MHz frequency bands must be capable of operating on all of the designated nationwide narrowband Interoperability channels pursuant to the standards specified in this part.

(a) Mobile and portable transmitters that are designed to operate only on the Low Power Channels specified in §§ 90.531(b)(3) and (b)(4) are exempt from this Interoperability channel requirement.

(b) Mobile and portable transmitters that are designed to operate only on the narrowband data Interoperability channels specified in § 90.531 (b)(1)(i) are exempt from this Interoperability channel requirement.

(c) Mobile and portable transmitters that are designed to operate only in the voice mode do not have to operate on the narrowband data Interoperability channels specified in § 90.531 (b)(1)(i).

9. Section 90.548 is added to read as follows:

§ 90.548 Interoperability technical standards.

(a) Transmitters operating on those narrowband channels in the 764-776 and 794-806 MHz band designated for interoperability (See 90.531) shall conform to the following technical standards:

(1) Transmitters designed for voice operation shall include a 12.5 kHz bandwidth mode of operation conforming to the following standards: ANSI/TIA/EIA 102.BAAA-1 (common air interface) for operation in the 12.5 kHz FDM mode; ANSI/TIA/EIA 102.BABA (vocoder).

(2) Transmitters designed for data transmission shall include a 12.5 kHz bandwidth mode of operation conforming to the following standards: ANSI/TIA/EIA 102.BAEA (data overview); ANSI/TIA/EIA 102.BAEB (packet data specification); ANSI/TIA/EIA 102.BAEC (circuit data specification); ANSI/TIA/EIA 102.BAEA (radio control protocol); ANSI/TIA/EIA 102.BAAA-1 (common air interface) for operation in the 12.5 kHz FDM mode.

(b) Copies of the standards listed in this Section that are incorporated by reference can be purchased from the American National Standards Institute, Washington, DC Headquarters, 1819 L Street, NW, 6th Floor, Washington, DC 20036.

(c) Copies of the standards listed in this Section that are incorporated by reference may be inspected at the Federal Communications Commission, 445 12th Street, SW, Washington, DC (Reference Information Center) or at the Office of the Federal Register, 800 North Capitol Street, NW, Suite 700, Washington DC.

10. Section 90.553 is added to read as follows:

§ 90.553 Encryption.

(a) Encryption is permitted on all but the two nationwide Interoperability calling channels. Radios employing encryption must have a readily accessible switch or other readily accessible control that permits the radio user to disable encryption.

(b) If Encryption is employed then the following encryption protocol must be used: TIA/EIA IS AAAA-A Project 25 DES.

(c) Copies of the standards listed in this Section that are incorporated by reference can be purchased from TIA/EIA, 2500 Wilson Boulevard, Arlington, VA, 22201, or Global Engineering Documents, 155 Inverness Way East, Englewood, CO 80112.

[FR Doc. 01-4027 Filed 2-15-01; 8:45 am]

BILLING CODE 6712-01-P